DEPARTMENT OF EDUCATION

Notice of a Joint Technical Assistance Workshop for Preparing Fiscal Year (FY) 2014 Grant Applications

AGENCY: International and Foreign Language Education, Office of Postsecondary Education, Department of Education.

ACTION: Notice.

[Catalog of Federal Domestic Assistance Number: 84.015A, 84.015B, 84.220A, 84.229A, and 84.016A.]

SUMMARY: The Department of Education (Department) International and Foreign Language Education (IFLE) announces a joint technical assistance workshop and project directors' meeting to be held in Washington, DC, September 22-24, 2013. The objective for the technical assistance workshop is to provide applicants with guidance on how to develop high-quality grant applications for programs authorized by Title VI of the Higher Education Act (HEA) that the Department expects to hold competitions for in FY 2014.

FOR FURTHER INFORMATION CONTACT: Cheryl E. Gibbs, IFLE, U.S. Department of Education, 1990 K Street NW., Washington, DC 20006-8521. Telephone: (202) 502-7634 or by email: cheryl.gibbs@ed.gov or Michelle Ward, IFLE. Telephone: (202) 502-7623 or by email: michelle.ward@ed.gov.

If you use a telecommunications device for the deaf or a text telephone, call the Federal Relay Service, toll free, at 1-800-877-8339.

SUPPLEMENTARY INFORMATION: The technical assistance workshop will provide assistance to applicants for the National Resource Centers (NRC) Program, the Foreign Language and Area Studies (FLAS) Fellowships Program, and the Centers for International Business Education (CIBE) Program, and the Language Resource Centers (LRC) Program. The project directors' meeting will provide assistance to FY 13 grantees of the Undergraduate International Studies and Foreign Language (UISFL) Program.

Workshop sessions include, but are not limited to sessions about the selection criteria, performance measures, program and project evaluation, and competition priorities. Technical assistance information will also include panels that will be open to all participants on topics such as language assessment, education abroad opportunities for students, integrating international education competencies into teacher education programs, outreach to underrepresented groups and institutions, and the role of international education programs in responding to President Obama's goals for achieving global competitiveness and improved college completion rates, among other topics.

The UISFL project directors' meeting will cover Department guidance for grant administration and risk management, budget and project revisions, the challenges facing project directors and key staff in administering their UISFL projects, and best practices gleaned from funded projects. UISFL program staff will discuss strategies for achieving successful project implementation and long-term sustainability, resource leveraging, and activities that could be conducted in coordination with NRC and LRC institutions.

A tentative agenda for the joint meeting is available at http://iflemeetings.com/agenda/.

Please be advised that this notice announces only the joint technical assistance workshop and project directors' meeting. The Department has not established deadline dates for any FY 2014 competitions. All FY 2014 competition notices will be published at a later time.

Other Information: Participants from NRC, FLAS, CIBE, and LRC institutions must not use grant funds for any costs associated with the technical assistance workshop. Project directors and participants from FY 13 UISFL grantee institutions are permitted to use grant funds to attend their meeting.

Exhibits: We welcome exhibit materials from individuals, institutions, and organizations but space is limited. Please see specific instructions for submitting exhibit proposals and materials at http://iflemeetings.com/exhibitors/.

Assistance to Individuals with Disabilities Attending the Technical Assistance Workshop:

The site for the joint technical assistance workshop and project directors' meeting is accessible to individuals with disabilities. If you need an auxiliary aid or service to participate (e.g., interpreting service, assistive listening device, or materials in an alternative format), notify the contact person listed under FOR FURTHER INFORMATON CONTACT at least two weeks before the scheduled workshop date. Although we will attempt to meet a request received after that date, we may not be able to make available the requested auxiliary aid or service because of insufficient time to arrange it.

Registration: There is no registration fee for attending this joint meeting. All participants, however, should register online at http://iflemeetings.com.

Use the “Contact Us” page on the Web site http://iflemeetings.com/contact/ to submit any questions you might have. All inquiries will be responded to online. Meeting Site and Reservations: The location for the joint workshop and meeting is as follows: The Washington Hilton, 1990 Connecticut Avenue NW., Washington, DC 20009.

Participants are responsible for arranging their own travel and making their room reservations online. More information about how to obtain a hotel group rate is available at http://iflemeetings.com/logistics/.

Accessible Format: Individuals with disabilities can obtain this document in an accessible format (e.g., braille, large print, audiotape, or compact disc) on request to the contact persons listed in the FOR FURTHER INFORMATION CONTACT section.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. §§ 1121-1123 and 1130-1131.

Dated: July 23, 2013.
Brenda Dann-Messier,
Assistant Secretary for Vocational and Adult Education, delegated the authority to perform the functions and duties of the Assistant Secretary for Postsecondary Education.

[FR Doc. 2013-18023 Filed 7-25-13; 8:45 am]

BILLING CODE 4000-01-P